DEPARTMENT OF THE INTERIOR

National Park Service

[2280-665]

National Register of Historic Places; Notification of Pending Nominations and Related Actions

Correction

In notice document 2010-30112 beginning on page 74079 in the issue of Tuesday, November 30, 2010, make the following correction:

On page 74079, in the first column, in the first full paragraph, in the 22nd line, “November 30, 2010” should read “December 15, 2010”.

[FR Doc. C1-2010-30112 Filed 12-10-10; 8:45 am]

BILLING CODE 1505-01-D